ENVIRONMENTAL PROTECTION AGENCY

[FRL-9687-5]

Public Water System Supervision Program Revision for the State of Texas

AGENCY: United States Environmental Protection Agency (EPA).

ACTION: Notice of tentative approval.

SUMMARY: Notice is hereby given that the State of Texas is revising its approved Public Water System Supervision Program. Texas has adopted the Lead and Copper Rule (LCR) Short-Term Revisions. EPA has determined that the proposed LCR Short-Term Revision submitted by Texas is no less stringent than the corresponding federal regulation. Therefore, EPA intends to approve the program revision.

DATES: All interested parties may request a public hearing. A request for a public hearing must be submitted by July 16, 2012 to the Regional Administrator at the EPA Region 6 address shown below. Frivolous or insubstantial requests for a hearing may be denied by the Regional Administrator. However, if a substantial request for a public hearing is made by July 16, 2012, a public hearing will be held. If no timely and appropriate request for a hearing is received and the Regional Administrator does not elect to hold a hearing on his own motion, this determination shall become final and effective on July 16, 2012. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:00 a.m. and 4:30 p.m., Monday through Friday, at the following offices: Texas Commission on Environmental Quality, Water Supply Division, Public Drinking Water Section (MC-155), Building F, 12100 Park 35 Circle, Austin, TX 78753; and United States Environmental Protection Agency, Region 6, Drinking Water Section (6WQ-SD), 1445 Ross Avenue, Suite 1200, Dallas, Texas 75202.

FOR FURTHER INFORMATION CONTACT: Damon McElroy, EPA Region 6, Drinking Water Section at the Dallas address given above or at telephone (214) 665-7159, or by email at mcelroy.damon@epa.gov.

Authority: Section 1413 of the Safe Drinking Water Act, as amended (1996), and 40 CFR part 142 of the National Primary Drinking Water Regulations.

Dated: June 7, 2012.
Samuel Coleman,
Acting Regional Administrator, Region 6.

[FR Doc. 2012-14570 Filed 6-13-12; 8:45 am]

BILLING CODE 6560-50-P